DEPARTMENT OF HEALTH AND HUMAN SERVICES

Administration for Children and Families

Submission for OMB Review; 2020 Residential Energy Consumption Survey (RECS), Low Income Home Energy Assistance Program (LIHEAP) Administrative Data Matching (OMB #0970-0486)

AGENCY: Office of Community Services, Administration for Children and Families, HHS.

ACTION: Request for public comment.

SUMMARY: The Office of Community Services (OCS) is requesting a reinstatement without change for the collection and reporting of administrative household recipient data from state LIHEAP grantees. OMB approved the original collection under #0970-0486. ACF published a Federal Register notice on July 30, 2019 soliciting 60 days of public comment on requiring state grantees to provide household-level recipient data for this effort. ACF received no comments on that notice.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Low Income Home Energy Assistance Program (LIHEAP) block grant (42 U.S.C. 8621 et seq.) was established under Title XXVI of the Omnibus Budget Reconciliation Act of 1981, Public Law 97-35, as amended. The Office of Community Services (OCS), Administration for Children and Families (ACF), within the U.S. Department of Health and Human Services (HHS), administers LIHEAP at the federal level.

The LIHEAP statute requires HHS to report to Congress annually on program impacts on recipient and eligible households. The primary program goals, as articulated in the statute, are to ensure that benefits are targeted to those households where the greatest program impacts are expected, and to assure that timely resources are available to households experiencing home energy crises.

OCS is seeking a reinstatement without change to collect data from all state LIHEAP grantees and the District of Columbia that will allow OCS to identify LIHEAP recipients that respond to the Residential Energy Consumption Survey (RECS), which the U.S. Energy Information Administration (EIA) is planning to conduct in 2020. EIA conducts this survey to provide periodic national and regional data on residential energy use in the United States. OCS uses RECS data to furnish Congress and the Administration with important national and regional descriptive data on the energy needs of low-income households. Specific data elements OCS is seeking to collect are detailed below.

In 2015, state LIHEAP grantees provided household-level data to identify LIHEAP recipients that participated in the 2015 RECS. ACF is requesting no changes in the type of data or the form of data collection for the 2020 reinstatement of the project. State LIHEAP grantees will be asked to furnish data for LIHEAP recipient households that reside in areas included in the RECS sample.

For each household, report the following:

• Name

• Address (including ZIP code)

• Gross Income

• Household Size

• Household or Client ID

• Heating assistance awarded

• Amount of heating assistance

• Date of heating assistance

• Cooling assistance awarded

• Amount of cooling assistance

• Date of cooling assistance

• Crisis assistance awarded

• Amount of crisis assistance

• Date of crisis assistance

• Other assistance awarded

• Amount of other assistance

• Date of other assistance

• Presence of children 5 or younger

• Presence of adult 60 or older

• Presence of disabled

The following are additional optional data items that grantees can provide if the data are available in your database:

• Tenancy (i.e., own or rent)

• Type(s) of fuel used

• Heat included in rent

This data will help ACF to analyze specific information for the LIHEAP recipient population in accordance with 42 U.S.C. 8629(b)(2), including information related to benefits targeting, energy usage, and energy insecurity, and it will support analysis of LIHEAP data for the annual Report to Congress and the annual LIHEAP Home Energy Notebook. The collection of this data is authorized in 42 U.S.C. 8629(a).

Respondents: State Governments and the District of Columbia

Annual Burden Estimates
Instrument | Total number of respondents | Total number of responses per respondent | Average burden hours per response | Total burden hours | Annual burden hours
Action Transmittal Reinstatement without Change of the FY 2020 RECS LIHEAP Administrative Data Matching | 51 | 1 | 24 | 1,224 | 408

Estimated Total Annual Burden Hours: 408.

As LIHEAP is a block grant, there is varying capacity to collect and report data among grantees. The estimated burden hours displayed above are for the average LIHEAP grantee. All LIHEAP grantees have existing data systems to collect, maintain, and analyze this data to complete annual reporting requirements.

Authority: 42 U.S.C. 8629(a).

Mary B. Jones,
ACF/OPRE Certifying Officer.

[FR Doc. 2020-10230 Filed 5-12-20; 8:45 am]

BILLING CODE 4184-80-P